COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be furnished by nonprofit agencies employing persons who are blind or have other severe disabilities, and deletes products from the Procurement List previously furnished by such agencies.

DATES: Date added to and deleted from the Procurement List: August 23, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 6/5/2020, 6/12/2020 and 6/19/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Laundry Service

Mandatory for: U.S. Navy, Navy Medicine Readiness and Training Unit, Naval Support Activity Mid-South, Millington, TN

Mandatory Source of Supply: Wiregrass Rehabilitation Center, Inc., Dothan, AL

Contracting Activity: Dept of the Navy, Naval Hospital Pensacola FL

Service Type: Janitorial Service

Mandatory for: U.S. Army Engineer District San Francisco, Bay Model Visitor Center and Baseyard Building, Sausalito, CA

Mandatory Source of Supply: North Bay Rehabilitation Services, Inc., Rohnert Park, CA

Contracting Activity: Dept of the Army, W075 Endist San Fran

Service Type: Custodial Service

Mandatory for: FAA, Cheyenne System Support Center, Cheyenne, WY

Mandatory Source of Supply: Northwest Community Action Programs of Wyoming, Inc., Worland, WY

Contracting Activity: Federal Aviation Administration, 697DCK Regional Acquisitions SVCS

Service Type: Janitorial & Grounds Service

Mandatory for: FAA, Air Traffic Control Tower, Teterboro, NJ

Mandatory Source of Supply: Fedcap Rehabilitation Services, Inc., New York, NY

Contracting Activity: Federal Aviation Administration, 697DCK Regional Acquisitions SVCS

Service Type: Grounds Maintenance

Mandatory for: FAA, Charlotte Air Traffic Control Tower, Charlotte, NC

Mandatory Source of Supply: The Charles Lea Center, Inc., Spartanburg, SC

Contracting Activity: Federal Aviation Administration, 697DCK Regional Acquisitions SVCS

Deletions

On 6/19/2020, the Committee for Purchase From People Who Are Blind or Severely Disabled published notice of proposed deletion from the Procurement List. This notice is published pursuant to 41 U.S.C. 8503 (a)(2) and 41 CFR 51-2.3.

After consideration of the relevant matter presented, the Committee has determined that the product listed below is no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product to the Government.

3. There are no known regulatory alternatives which would accomplish the objectives of the Javits-Wagner-O'Day Act (41 U.S.C. 8501-8506) in connection with the product deleted from the Procurement List.

End of Certification

Accordingly, the following product is deleted from the Procurement List:

Product

NSN(s)—Product Name(s):

7930-01-555-2897—Degreaser, Biorenewable, Industrial Strength, 5 gl

Mandatory Source of Supply: VisionCorps, Lancaster, PA

Contracting Activity: GSA/FSS Greater Southwest Acquisiti, Fort Worth, TX

Michael R. Jurkowski,
Deputy Director, Business & PL Operations.

[FR Doc. 2020-16089 Filed 7-23-20; 8:45 am]

BILLING CODE 6353-01-P